DEPARTMENT OF ENERGY

Federal Energy Regulatory Commission

[Docket No. CP07-437-000]

Centerpoint Energy Gas Transmission Company; Notice of Request Under Blanket Authorization

August 27, 2007.

Take notice that on August 15, 2007, CenterPoint Energy Gas Transmission Company (CenterPoint), 1111 Louisiana Street, Houston, Texas, filed in Docket No. CP07-437-000 a prior notice request pursuant to sections 157.205 and 157.210 of the Commission's regulations under the Natural Gas Act (NGA), and CenterPoint's blanket certificate issued in Docket No. CP82-384-000 on September 1, 1982,¹ and amended in Docket No. CP82-384-001 on February 10, 1983.² Centerpoint seeks authorization to construct, own, and operate a new compressor station on Line AC located near the city of Cove in Polk County, Arkansas, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

¹ 20 FERC ¶ 62,408 (1982).

² 22 FERC ¶ 61,148 (1983).

Specifically, CenterPoint proposes to install a Solar Mars 100/C652 Turbine driven Centrifugal Compressor Package and associated ancillary equipment within a 38.5 acre lot owned by CenterPoint. The total compression available will be 14,801 horsepower. The proposed facilities will provide CenterPoint's customers with flexible access to traditional Mid-continent gas supplies and will enhance CenterPoint's infrastructure needed to support current and future natural gas development and production activities across CenterPoint's system. CenterPoint estimates that total construction costs will be approximately $26,257,504.

Any questions regarding this application should be directed to Michelle Willis, Supervisor, Rates & Regulatory, CenterPoint Energy Gas Transmission Company, P.O. Box 21734, Shreveport, Louisiana 71151, or call (318) 429-3708.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Comment Date: October 27, 2007.

Kimberly D. Bose,
Secretary.

[FR Doc. E7-17547 Filed 9-5-07; 8:45 am]

BILLING CODE 6717-01-P